DEPARTMENT OF EDUCATION

[Docket ID: ED-2013-OELA-0107]

Request for Information To Inform the Title III Technical Assistance Agenda and the Future Activities and Services of the National Clearinghouse for English Language Acquisition (NCELA)

AGENCY: Office of English Language Acquisition, Language Enhancement, and Academic Achievement for Limited English Proficient Students, Department of Education.

ACTION: Request for information.

SUMMARY: The U.S. Department of Education (the Department) requests information in two intertwining areas in support of the English learner community. First, the Department seeks information on the technical assistance needs of State educational agencies (SEAs), local educational agencies (LEAs), administrators, and teachers who provide services to English learners (ELs). Second, the Department seeks information on how we can best disseminate technical assistance, including materials through the National Clearinghouse for English Language Acquisition and Language Instruction Educational programs (NCELA) in support of the EL community and those who provide services to ELs.

DATES: Written submissions must be received by the Department by September 25, 2013.

ADDRESSES: Submit your comments through the Federal eRulemaking Portal or via postal mail, commercial delivery, or hand delivery. We will not accept comments by fax or by email. To ensure that we do not receive duplicate copies, please submit your comments only once. In addition, please include the Docket ID and the term “Technical Assistance-NCELA” at the top of your comments.

• Federal eRulemaking Portal: Go to www.regulations.gov to submit your comments electronically. Information on using Regulations.gov, including instructions for accessing agency documents, submitting comments, and viewing the docket, is available on the site under “Are you new to this site?”

• Postal Mail, Commercial Delivery, or Hand Delivery: If you mail or deliver your comments, address them to Melissa Escalante, Office of English Language Acquisition, Attention: Technical Assistance-NCELA RFI, U.S. Department of Education, 400 Maryland Avenue SW., Room 5C148, Washington, DC 20202-6132.

• Privacy Note: The Department's policy for comments received from members of the public (including comments submitted by mail, commercial delivery, or hand delivery) is to make these submissions available for public viewing in their entirety on the Federal eRulemaking Portal at www.regulations.gov. Therefore, commenters should be careful to include in their comments only information that they wish to make publicly available on the Internet.

Submission of Proprietary Information: Given the subject matter, some comments may include proprietary information as it relates to confidential commercial information. The Freedom of Information Act defines “confidential commercial information” as information the disclosure of which could reasonably be expected to cause substantial competitive harm. You may wish to request that we not disclose what you regard as confidential commercial information.

To assist us in making a determination on your request, we encourage you to identify any specific information in your comments that you consider confidential commercial information. Please list the information by page and paragraph numbers.

This Request for Information (RFI) is issued solely for information and planning purposes and is not a request for proposals (RFP), a promise to issue an RFP, or a notice inviting applications (NIA), nor does it serve as a modification to the current NCELA contract. This RFI does not commit the Department to contract for any supply or service whatsoever. Further, the Department is not now seeking proposals and will not accept unsolicited proposals. The Department will not pay for any information or administrative costs that you may incur in responding to this RFI.

If you do not respond to this RFI, you may still apply for future contracts and grants. The Department posts RFPs on the Federal Business Opportunities Web site (www.fbo.gov). The Department announces grant competitions in the Federal Register (www.gpo.gov/fdsys). It is your responsibility to monitor these sites to determine whether the Department issues an RFP or NIA after considering the information received in response to this RFI.

The documents and information submitted in response to this RFI become the property of the U.S. Government and will not be returned.

FOR FURTHER INFORMATION CONTACT: Melissa Escalante, U.S. Department of Education, 400 Maryland Avenue SW., Room 5C148, Washington, DC 20202-6132 by phone at 202-401-1407.

If you use a telecommunications device for the deaf (TDD) or a text telephone (TTY), call the Federal Relay Service (FRS), toll free, at 1-(800) 877-8339.

SUPPLEMENTARY INFORMATION:

Introduction

The Elementary and Secondary Education Act of 1965, as amended (ESEA) holds States accountable for closing achievement gaps and ensuring that all children, including children with limited English proficiency, meet the same challenging academic and achievement standards all students are expected to meet. To this end, Title III of ESEA requires States to develop English language proficiency (ELP) standards that are aligned with challenging State academic content and student academic achievement standards. States must also develop and administer ELP assessments that are aligned with those standards, and must develop annual measurable achievement objectives (AMAOs) for English language proficiency. Under Section 3303 of the ESEA, the Secretary of Education is authorized to establish and support the operation of a National Clearinghouse for English Language Acquisition and Language Instruction Educational Programs (NCELA). NCELA is administered by the Office of English Language Acquisition, Language Enhancement and Academic Achievement for Limited English Proficient Students (OELA).

Under Section 3303 of the ESEA, NCELA's basic function is to collect, analyze, synthesize, and disseminate information concerning: (a) Language instruction educational programs for ELs, (b) educational research and processes related to the education of ELs, and (c) EL-related accountability systems that include EL students' academic content and English language achievement. NCELA will continue to offer EL stakeholders and the public multiple products and services across these areas. In order for NCELA's dissemination efforts to have the greatest effect, they must be as useful and as user-friendly as possible. This work must be continuously examined, improved, and coordinated with, and guided by the priorities of the Department and the needs of the field. Currently, NCELA uses a variety of methods to disseminate information, chief of which is its dedicated Web site (http://www.ncela.gwu.edu/). NCELA also disseminates information in a variety of other formats—written and electronic reports, maps, and monographs, and at various venues, such as, conferences, and pre-conference sessions with national organizations. NCELA's operations are managed by an external contractor responsible for carrying out its functions.

With this RFI the Department seeks to gather information on (a) how we can improve the content of the information that we disseminate through NCELA and (b) how NCELA can tailor its existing services and resources to deliver relevant and pertinent information to the EL community at large.

The Department anticipates making use of this information to inform our technical assistance agenda in the second term of the administration and to guide the future activities and services of NCELA.

Once we receive responses to this RFI, the Department will summarize the recommendations made by the public and post that summary on the NCELA Web site for public viewing. The Department will also use the information received through this RFI to inform our technical assistance agenda. That technical assistance agenda will also take into account the variety of formats used to deliver information to meet the needs of the EL community. Finally, the Department will use the feedback gathered from the RFI about the services provided through the NCELA Web site to consider any updates or enhancements to the Web site that are required by legislation or needed by the EL community.

Context for Responses

The primary goal of this RFI is to gather information that will help guide the Department's technical assistance agenda to assist SEAs and LEAs in meeting the educational needs of ELs, and then to use those responses to guide the dissemination of information to the public, SEAs, LEAs, and IHEs. We have developed a set of questions about the areas of technical assistance that would be most helpful and the most effective way for NCELA to deliver that technical assistance to the field. You do not have to respond to any specific question, nor do you have to respond to each topic area; however, it would be helpful if you would elaborate on each topic or question you choose to address. You may provide comments in any convenient format and may also provide relevant information that is not responsive to a particular question but may, nevertheless, be helpful.

Questions

1. General Questions About Technical Assistance

1.1 In which of the following areas is more technical assistance needed and at what level (e.g., SEA, LEA, school or classroom)?

a. Common Core State Standards or college- and career-ready standards and ELs;

b. English Language Proficiency Standards, which could include their alignment to college- and career-ready standards;

c. Language Instruction Educational Programs (LIEPs) (See the 2008-10 Biennial Report to Congress, page 20, Table 6 for examples of LIEPs http://www.ncela.gwu.edu/files/uploads/3/Biennial_Report_0810.pdf), which could include their alignment to the Common Core State Standards or to college- and career-ready standards;

d. Accountability;

e. The collection or use of data;

f. Professional development and education for teachers and leaders working with ELs;

g. ELP assessments;

h. Interpretation of Title III statutory requirements (e.g. supplanting prohibition);

i. Teacher evaluation;

j. Program evaluation protocols, such as protocols for teachers, programs, or students;

k. ESEA flexibility and ELs;

l. Science, technology, engineering, and math (STEM) instruction for ELs;

m. Students with interrupted formal education (SIFE);

n. Early childhood programs and ELs;

o. ELs at the secondary school level;

p. ELs served under IDEA;

q. Civil rights and ELs; or

r. Other areas.

1.2 What is your preferred method of delivery for technical assistance (e.g., NCELA listserv blasts, Webinars, written guides, conferences, meetings, presentations at National events held by mainstream organizations, or other delivery methods)?

2. General Questions Regarding the NCELA Web site and the Delivery of Technical Assistance and EL Related Information

2.1 How useful is the current information displayed on the Web site? Please indicate what is and what is not useful.

2.2 Is there information missing from the Web site that should be disseminated?

2.3 How easy is the Web site to navigate? Can you find the information you are searching for?

2.4 Are there any features you would recommend adding to the Web site?

2.5 How would you describe the organization of the resource library on the Web site? Would you recommend any improvements?

2.6 How do you find the content of the resource library with regard to its quality, relevance, and usefulness?

2.7 When you seek information or technical assistance on a topic, do you consult NCELA? Why or why not?

2.8 Are there other issues about the Web site that you would like to make us aware of that would be helpful to improve its utility to the public?

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site. You may also access documents of the Department published in the Federal Register by using the article search feature at: www.federalregister.gov. Specifically, through the advanced search feature at this site, you can limit your search to documents published by the Department.

Program Authority: 20 U.S.C. 6801-7014.

Dated: August 30, 2013.
Joseph C. Conaty,
Acting Director, Office of English Language Acquisition, Language Enhancement, and Academic Achievement for Limited English Proficient Students.

[FR Doc. 2013-21639 Filed 9-4-13; 8:45 am]

BILLING CODE 4000-01-P